DEPARTMENT OF TRANSPORTATION

Federal Aviation Administration

14 CFR Part 39

[Docket No. FAA-2012-1180; Directorate Identifier 2012-CE-032-AD]

RIN 2120-AA64

Airworthiness Directives; Hawker Beechcraft Corporation

AGENCY: Federal Aviation Administration (FAA), DOT.

ACTION: Notice of proposed rulemaking (NPRM).

SUMMARY: We propose to adopt a new airworthiness directive (AD) for certain Hawker Beechcraft Corporation (HBC) Models 58, 58TC, 58P, 95C55, E55, and 56TC airplanes. This proposed AD was prompted by reports of elevator balance weights becoming loose or failing because the balance weight material was under strength and did not meet material specifications. This proposed AD would require inspections of elevator balance weights and replacement of defective elevator balance weights. We are proposing this AD to correct the unsafe condition on these products.

DATES: We must receive comments on this proposed AD by December 21, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Hawker Beechcraft Corporation, B091-A04, 10511 E. Central Ave., Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Steven E. Potter, Aerospace Engineer, FAA, Wichita Aircraft Certification Office, 1801 Airport Road, Room 100, Wichita, Kansas 67209; telephone: (316) 946-4124; fax: (316) 946-4107; email: steven.potter@faa.gov.

SUPPLEMENTARY INFORMATION:

Comments Invited

We invite you to send any written relevant data, views, or arguments about this proposal. Send your comments to an address listed under the ADDRESSES section. Include “Docket No. FAA-2012-1180; Directorate Identifier 2012-CE-032-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of elevator balance weights becoming loose or failing on Hawker Beechcraft Model 58 airplanes. The balance weight material was under strength and did not meet the material specification requirements. The balance weight looseness and/or failure could reduce the flutter speed and lead to loss of control.

Relevant Service Information

We reviewed Hawker Beechcraft Mandatory Service Bulletin SB 55-4089, Revision 1, dated February, 2012. Hawker Beechcraft Mandatory Service Bulletin SB 55-4089, Revision 1, dated February, 2012, describes procedures for inspection and replacement of the elevator balance weight assembly.

FAA's Determination

We are proposing this AD because we evaluated all the relevant information and determined the unsafe condition described previously is likely to exist or develop in other products of the same type designs.

Proposed AD Requirements

This proposed AD would require accomplishing the actions specified in the service information described previously.

Differences Between the Proposed AD and the Service Information

The service information specifies an inspection of the elevator balance weight with an optional replacement. This proposed AD requires that the elevator balance weight be replaced within 200 hours time-in-service (TIS) after the effective date of this proposed AD, with a 100-hour TIS inspection before the replacement.

Costs of Compliance

We estimate that this proposed AD affects 343 airplanes of U.S. registry.

We estimate the following costs to comply with this proposed AD:

Estimated Costs
Action | Labor cost | Parts cost | Cost per product | Cost on U.S. operators
Inspection of the elevator balance weight | .5 work-hour × $85 per hour = $42.50 | Not applicable | $42.50 | $14,577.50
Replacement of elevator balance weight | 1 work-hour × $85 per hour = $85 | $300 | 385 | 132,055

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation: Docket No. FAA-2012-1180; Directorate Identifier 2012-CE-032-AD.

(a) Comments Due Date

We must receive comments by December 21, 2012.

(b) Affected ADs

None.

(c) Applicability

This AD applies to the following Hawker Beechcraft Corporation (HBC) airplanes, certificated in any category:

(1) Model 58, serial numbers TH-1768 through TH-2110; and

(2) Models 58, 58TC, 58P, 95C55, E55, and 56TC that are equipped with elevator balance weight assemblies purchased between January 1, 1996, and December 31, 2005.

(d) Subject

Joint Aircraft System Component (JASC)/Air Transport Association (ATA) of America Code 2730: Elevator Balance Weight.

(e) Unsafe Condition

This AD was prompted by reports of reports of elevator balance weights becoming loose or failing because the balance weight material was under strength and did not meet material specifications. We are issuing this AD to prevent the elevator balance weights from becoming lose or failing, which could result in reduced flutter speed and lead to loss of control.

(f) Compliance

Comply with this AD within the compliance times specified, unless already done, following the instructions in Hawker Beechcraft Mandatory Service Bulletin SB 55-4089, Revision 1, dated February, 2012.

(g) Inspection of Elevator Balance Weight

Before further flight after the effective date of this AD and thereafter at intervals not to exceed 100 hours time-in-service (TIS) until the replacement required by this AD is done, inspect the elevator balance weights for looseness, failure, and/or working (smoking) fasteners and inserts.

(h) Replacement of Elevator Balance Weight

(1) Replace the defective elevator balance weight with an airworthy balance weight as specified in Hawker Beechcraft Mandatory Service Bulletin SB 55-4089, Revision 1, dated February, 2012, at whichever of the following occurs first:

(i) Before further flight after any inspection required by paragraph (g) of this AD where any looseness, failure, and/or working (smoking) fasteners and inserts are found; or,

(ii) Within the next 200 hours TIS after the effective date of this AD.

(2) Replacement of the elevator balance weights with airworthy elevator balance weights terminates the 100-hour inspection requirement in paragraph (g) of this AD.

(3) If only one elevator balance weight is replaced before 200 hours TIS after the effective date of this AD, then the other elevator balance weight is subject to the repetitive inspections until the replacement required by paragraph (h)(1) of this AD.

(i) Special Flight Permit

Special flight is permitted with the following limitations: Maximum structural cruising speed (Vno) = Design Speed for maximum gust intensity (Vb) = 195 Knots Calibrated Airspeed (KCAS), or Vno = Vb = 195KCAS. This special flight is not allowed in turbulent weather conditions and the duration of this flight should not be more than a total of 10 t hours TIS.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Steven E. Potter, Aerospace Engineer, FAA, Wichita ACO, 1801 Airport Road, Room 100, Wichita, Kansas 67209; telephone: (316) 946-4124; fax: (316) 946-4107; email: steven.potter@faa.gov.

(2) For service information identified in this AD, contact Hawker Beechcraft Corporation, B091-A04, 10511 E. Central Ave., Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Issued in Kansas City, Missouri, on October 30, 2012.
Earl Lawrence,
Manager, Small Airplane Directorate, Aircraft Certification Service.

[FR Doc. 2012-27052 Filed 11-5-12; 8:45 am]

BILLING CODE 4910-13-P